DEPARTMENT OF COMMERCE

International Trade Administration

[A-549-817]

Certain Hot-Rolled Carbon Steel Flat Products From Thailand: Final Results of Antidumping Duty Administrative Review and Partial Rescission of Antidumping Duty Administrative Review

AGENCY: Import Administration, International Trade Administration, Department of Commerce.

SUMMARY: The Department of Commerce (the Department) has conducted an administrative review of the antidumping duty order on certain hot-rolled carbon steel flat products from Thailand produced and/or exported by G Steel Public Company Limited (G Steel). The period of review (POR) is November 1, 2005 through October 31, 2006. Based on our analysis of comments received, we have made certain adjustments and clerical error corrections for these final results which change the margin. This administrative review also covers Nakornthai Strip Mill Public Co., Ltd. (NSM), an exporter that did not have any U.S. sales or shipments during the POR, and for which the Department is rescinding this review. The final results are listed below in the “Final Results of Review” section.

EFFECTIVE DATE: June 12, 2008.

FOR FURTHER INFORMATION CONTACT: Dena Crossland or Stephen Bailey, Import Administration, International Trade Administration, U.S. Department of Commerce, 14th Street and Constitution Ave., NW., Washington, DC 20230; telephone: (202) 482-3362 and (202) 482-0193, respectively.

SUPPLEMENTARY INFORMATION:

Background

On December 7, 2007, the Department published the preliminary results and partial rescission of its administrative review of the antidumping duty order on certain hot-rolled carbon steel flat products (hot-rolled steel) from Thailand. See Certain Hot-Rolled Carbon Steel Flat Products From Thailand: Preliminary Results of Antidumping Duty Administrative Review and Partial Rescission, 72 FR 69187 (December 7, 2007) (Preliminary Results).

We invited parties to comment on our Preliminary Results. We received case briefs from respondent G Steel and a domestic interested party, Nucor Corporation (Nucor), on January 7, 2008. Additionally, on January 7, 2008, NSM submitted a letter to the Department, in which it stated that it supported the Department's preliminary determination to rescind the review with respect to NSM because it did not have any entries, exports, or sales of subject merchandise to the United States during the POR. We received rebuttal briefs from G Steel, Nucor, and United States Steel Corporation (petitioner) on January 11, 2008. Since no party requested a hearing, no public hearing was held.

Final Partial Rescission

In our Preliminary Results, we preliminarily rescinded the review with respect to NSM because it had no entries of hot-rolled steel from Thailand during the POR. See Preliminary Results. We have received no new information contradicting this decision. Therefore, we are rescinding the administrative review with respect to NSM.

Scope of the Antidumping Duty Order

The products covered by this antidumping duty order are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and CBP purposes, the written description of the merchandise is dispositive.

Analysis of Comments Received

The Department received case and rebuttal briefs from Nucor and G Steel. Additionally, the Department received a rebuttal brief from petitioner. All case and rebuttal briefs for the final results are addressed in the “Issues and Decision Memorandum for the Final Results of Antidumping Duty Administrative Review and Partial Rescission of Antidumping Duty Administrative Review: Certain Hot-Rolled Carbon Steel Flat Products from Thailand” from Stephen J. Claeys, Deputy Assistant Secretary, Import Administration, to David M. Spooner, Assistant Secretary, Import Administration, dated June 4, 2008 (Decision Memo), which is hereby adopted by this notice. Additionally, certain issues that contain proprietary information and arguments are addressed in the memorandum “Analysis Memorandum for the Final Results of Administrative Review of Certain Hot-Rolled Carbon Steel Flat Products from Thailand: G Steel Public Company Limited” from Dena Crossland, Analyst, to The File, through Angelica L. Mendoza, Program Manager, AD/CVD Operations, Office 7, dated June 4, 2008 (Final Analysis Memo), which is also hereby adopted by this notice.

Attached to this notice as an appendix is a list of the issues that Nucor and G Steel have raised and to which we have responded in the Decision Memo. Parties can find a complete discussion of all issues raised in this review and the corresponding recommendations in the Decision Memo, which is on file in the Department's Central Records Unit, located at 14th Street and Constitution Avenue, NW., Room 1117. In addition, a complete version of the Decision Memo can be accessed directly on the Import Administration Web site at http://ia.ita.doc.gov/ under the heading Federal Register Notices. The paper copy and electronic version of the Decision Memo are identical in content.

Changes Since the Preliminary Results

Based on our analysis of comments received, we made the following changes from the Preliminary Results:

(1) We revised our adverse facts available methodology by relying on G Steel's sales to unaffiliated customers and the sales from G Steel's resellers to end-users in the margin calculation, and excluding G Steel's sales to its affiliated resellers from the margin calculation. Therefore, we have not utilized the arm's-length test;

(2) We revised our adverse facts available methodology for purposes of the cost test by comparing the home market sales to unaffiliated customers to the CONNUM with the highest cost;

(3) We used home market net quantity, rather than home market gross quantity, in our analysis;

(4) We made adjustments for quantity and indirect selling expenses in G Steel's reseller databases; and

(5) We disregarded from our analysis G Steel's purchases of hot-rolled steel products from a certain supplier.

Final Results of Review

We determine that the following dumping margin exists for the period November 1, 2005, through October 31, 2006:

Manufacturer/exporter | Margin (percent)
G Steel Public Company Limited | 6.40

Assessment Rates

The Department will determine, and U.S. Customs and Border Protection (CBP) shall assess, antidumping duties on all appropriate entries, pursuant to section 751(a)(1)(B) of the Tariff Act of 1930, as amended (the Act), and 19 CFR 351.212(b). The Department calculated importer-specific duty assessment rates on the basis of the ratio of the total amount of antidumping duties calculated for the examined sales to the total entered value of the examined sales for that importer.

The Department clarified its “automatic assessment” regulation on May 6, 2003 (68 FR 23954). This clarification will apply to entries of subject merchandise during the period of review produced by companies included in these final results of review for which the reviewed companies did not know their merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003). Antidumping duties for the rescinded company NSM, shall be assessed at rates equal to the cash deposit of estimated antidumping duties required at the time of entry, or withdrawal from warehouse, for consumption, in accordance with 19 CFR 351.212(c)(1)(i). The Department intends to issue assessment instructions to CBP 15 days after the date of publication of these final results of review.

Cash Deposit Requirements

The following deposit requirements will be effective upon publication of this notice of final results of administrative review for all shipments of hot-rolled steel from Thailand entered, or withdrawn from warehouse, for consumption on or after the date of publication, as provided by section 751(a)(1) of the Act: (1) The cash deposit rates for the reviewed companies will be the rates indicated above; (2) for previously investigated companies not listed above, the cash deposit rate will continue to be the company-specific rate published for the most recent period; (3) if the exporter is not a firm covered in this review, or in the less-than-fair-value (LTFV) investigation, but the manufacturer is, then the cash deposit rate will be the rate established for the most recent period for the manufacturer of the merchandise; and (4) the cash deposit rate for all other manufacturers or exporters will continue to be 3.86 percent, the all-others rate established in the LTFV investigation (66 FR 49622; September 28, 2001). These deposit requirements shall remain in effect until further notice.

Notification of Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing these final results and notice in accordance with sections 751(a)(1) and 777(i)(1) of the Act.

Dated: June 4, 2008.
David M. Spooner,
Assistant Secretary for Import Administration.

Appendix

List of Comments and Issues in the Decision Memorandum

Comment 1: Use of Adverse Facts Available.

Comment 2: Affiliation.

Comment 3: Reseller Databases.

Comment 4: Clerical Errors.

Comment 5: Liquidation Instructions.

[FR Doc. E8-13267 Filed 6-11-08; 8:45 am]

BILLING CODE 3510-DS-P